FEDERAL COMMUNICATIONS COMMISSION

[FRS 17384]

Notice of Comment Period

AGENCY: Federal Communications Commission.

ACTION: Notice of Comment Period.

SUMMARY: On December 21, 2020, the FCC released a Public Notice (PN), Public Safety and Homeland Security Bureau Seeks Comment on a National 911 Call Center Contact Information Database, PS Dockets Nos. 13-75, 11-60. The PN announced that the Bureau will seek comments on a letter, filed on December 7, 2020 by the Alliance for Telecommunications Industry Solutions' (ATIS) Network Reliability Steering Committee. This letter addresses third-party efforts to develop a national Public Safety Answering Point (PSAP) contact information database. ATIS supports the development of this database, but believes that providers need a liability safe harbor for potentially inaccurate database information. ATIS further believes participation in this database should be voluntary.

DATES: Comments are due on or before 30 days from the date of publication in the Federal Register.

ADDRESSES: You may submit comments, identified by PS Dockets Nos. 13-75, 11-60, by any of the following methods:

• Electronic Filers: Comments may be filed electronically using the internet by accessing the Federal Communications Commission's ECFS website: http://apps.fcc.gov/ecfs/. Follow the instructions for submitting comments.

• Paper Filers: Parties who choose to file by paper must file an original and one copy of each filing. If more than one docket or rulemaking number appears in the caption of this proceeding, filers must submit two additional copies for each additional docket or rulemaking number.

Filings can be sent by commercial overnight courier, or by first-class or overnight U.S. Postal Service mail. All filings must be addressed to the Commission's Secretary, Office of the Secretary, Federal Communications Commission.

• Commercial overnight mail (other than U.S. Postal Service Express Mail 70570 and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). During the time the Commission's building is closed to the general public and until further notice, if more than one docket or rulemaking number appears in the caption of a proceeding, paper filers need not submit two additional copies for each additional docket or rulemaking number; an original and one copy are sufficient.

People with Disabilities: To request materials in accessible formats for people with disabilities (braille, large print, electronic files, audio format), send an email to fcc504@fcc.gov or call the Consumer and Governmental Affairs Bureau at 202-418-0530 (voice), 1-888-835-5322 (tty).

FOR FURTHER INFORMATION CONTACT: Jennifer Holtz, Deputy Division Chief, Cybersecurity and Communications Reliability Division, Public Safety and Homeland Security Bureau, (202) 418-2336, Jennifer.Holtz@fcc.gov; or Kathleen Hom, Attorney Advisor, Cybersecurity and Communications Reliability Division, Public Safety and Homeland Security Bureau, (202) 418-2049, Kathleen.Hom@fcc.gov. Direct press inquiries to Rochelle Cohen, (202) 418-1162, Rochelle.Cohen@fcc.gov.

SUPPLEMENTARY INFORMATION: This is a summary of the Commission's document, Public Notice, DA-20-1519, released December 21, 2020. The full text of this document is available for public inspection and can be downloaded at or by using the search function for PS Dockets Nos. 13-75, 11-60 on the Commission's ECFS web page at www.fcc.gov/ecfs.

Federal Communications Commission.
Marlene Dortch,
Secretary, Office of the Secretary.

[FR Doc. 2021-00854 Filed 1-14-21; 8:45 am]

BILLING CODE 6712-01-P